DEPARTMENT OF ENERGY

Federal Energy Regulatory Commission

[Docket No. RP02-548-000]

Colorado Interstate Gas Company; Notice of proposed Changes in FERC Gas Tariff

September 20, 2002.

Take notice that on September 16, 2002, Colorado Interstate Gas Company (CIG) tendered for filing as part of its FERC Gas Tariff, First Revised Volume No. 1, the following tariff sheets, to become effective October 17, 2002:

Fifth Revised Sheet No. 382

Eighth Revised Sheet No. 383

Third Revised Sheet No. 383A

Fourth Revised Sheet No. 384

Second Revised Sheet No. 384A

Fifth Revised Sheet No. 406A

Fourth Revised Sheet No. 408

Fifth Revised Sheet No. 412A

Fourth Revised Sheet No. 414

Fifth Revised Sheet No. 419

Third Revised Sheet No. 421

Second Revised Sheet No. 422

CIG states that these tariff sheets revise the Form of Service Agreements applicable to service under CIG's firm and no-notice rate schedules to include additional contracting practices.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's web site under the “e-Filing” link.

Magalie R. Salas,
Secretary.

[FR Doc. 02-24566 Filed 9-26-02; 8:45 am]

BILLING CODE 6717-01-P